DEPARTMENT OF HEALTH AND HUMAN SERVICES

National Institutes of Health

Center for Scientific Review; Amended Notice of Meeting

Notice is hereby given of a change in the meeting of the Molecular and Cellular Endocrinology Study Section, October 08, 2013, 08:00 a.m. to October 08, 2013, 06:30 p.m., Hilton Garden Inn Bethesda, 7301 Waverly Street, Bethesda, MD, 20814, which was published in the Federal Register on September 12, 2013, 78 FR 177 Pg. 56239.

The meeting will be held at the Palomar Hotel, 2121 P Street NW., Washington, DC 20037. The meeting will start on December 9, 2013 at 7:00 a.m. and end December 9, 2013 at 6:30 p.m. The meeting is closed to the public.

Dated: October 30, 2013.
David Clary,
Program Analyst, Office of Federal Advisory Committee Policy.

[FR Doc. 2013-26309 Filed 11-1-13; 8:45 am]

BILLING CODE 4140-01-P